DEPARTMENT OF ENERGY

Federal Energy Regulatory Commission

Combined Notice of Filings #1

Take notice that the Commission received the following electric corporate filings:

Docket Numbers: EC22-65-000.

Applicants: Sunlight Storage, LLC, NEP US SellCo, LLC, NextEra Energy Partners Acquisitions, LLC.

Description: Joint Application for Authorization Under Section 203 of the Federal Power Act of Sunlight Storage, LLC et al.

Filed Date: 5/10/22.

Accession Number: 20220510-5217.

Comment Date: 5 p.m. ET 5/31/22.

Take notice that the Commission received the following exempt wholesale generator filings:

Docket Numbers: EG22-115-000.

Applicants: Tres Bahias Solar Power, LLC.

Description: Tres Bahias Solar Power, LLC submits Notice of Self-Certification of Exempt Wholesale Generator Status.

Filed Date: 5/11/22.

Accession Number: 20220511-5096.

Comment Date: 5 p.m. ET 6/1/22.

Take notice that the Commission received the following electric rate filings:

Docket Numbers: ER21-201-001.

Applicants: Atlantic City Electric Company, PJM Interconnection, L.L.C.

Description: Compliance filing: Atlantic City Electric Company submits tariff filing per 35: ACE Order No. 864 Deficiency Letter Response to be effective N/A.

Filed Date: 5/11/22.

Accession Number: 20220511-5020.

Comment Date: 5 p.m. ET 6/1/22.

Docket Numbers: ER21-203-001.

Applicants: Baltimore Gas and Electric Company, PJM Interconnection, L.L.C.

Description: Compliance filing: Baltimore Gas and Electric Company submits tariff filing per 35: BGE Order No. 864 Deficiency Letter Response to be effective N/A.

Filed Date: 5/11/22.

Accession Number: 20220511-5023.

Comment Date: 5 p.m. ET 6/1/22.

Docket Numbers: ER21-204-001.

Applicants: Commonwealth Edison Company, PJM Interconnection, L.L.C.

Description: Compliance filing: Commonwealth Edison Company submits tariff filing per 35: ComEd Order No. 864 Deficiency Letter Response to be effective N/A.

Filed Date: 5/11/22.

Accession Number: 20220511-5027.

Comment Date: 5 p.m. ET 6/1/22.

Docket Numbers: ER21-205-001.

Applicants: Delmarva Power & Light Company, PJM Interconnection, L.L.C.

Description: Compliance filing: Delmarva Power & Light Company submits tariff filing per 35: DPL Order No. 864 Deficiency Letter Response to be effective N/A.

Filed Date: 5/11/22.

Accession Number: 20220511-5037.

Comment Date: 5 p.m. ET 6/1/22.

Docket Numbers: ER21-206-001.

Applicants: Potomac Electric Power Company, PJM Interconnection, L.L.C.

Description: Compliance filing: Potomac Electric Power Company submits tariff filing per 35: Pepco Order No. 864 Deficiency Letter Response to be effective N/A.

Filed Date: 5/11/22.

Accession Number: 20220511-5051.

Comment Date: 5 p.m. ET 6/1/22.

Docket Numbers: ER21-209-001.

Applicants: PECO Energy Company, PJM Interconnection, L.L.C.

Description: Compliance filing: PECO Energy Company submits tariff filing per 35: PECO Order No. 864 Deficiency Letter Response to be effective N/A.

Filed Date: 5/11/22.

Accession Number: 20220511-5052.

Comment Date: 5 p.m. ET 6/1/22.

Docket Numbers: ER22-1851-000.

Applicants: RE Gaskell West 4 LLC.

Description: Tariff Amendment: Cancellation of Market Based Rate and Certificate of Concurrence to be effective 5/11/2022.

Filed Date: 5/10/22.

Accession Number: 20220510-5179.

Comment Date: 5 p.m. ET 5/31/22.

Docket Numbers: ER22-1852-000.

Applicants: RE Gaskell West 5 LLC.

Description: Tariff Amendment: Cancellation of Market Based Rate and Certificate of Concurrence to be effective 5/11/2022.

Filed Date: 5/10/22.

Accession Number: 20220510-5184.

Comment Date: 5 p.m. ET 5/31/22.

Docket Numbers: ER22-1853-000.

Applicants: Southwest Power Pool, Inc.

Description: § 205(d) Rate Filing: 3944 WAPA/NorVal Electric Coop/Central Montana Electric IA to be effective 5/10/2022.

Filed Date: 5/11/22.

Accession Number: 20220511-5021.

Comment Date: 5 p.m. ET 6/1/22.

Docket Numbers: ER22-1854-000.

Applicants: PacifiCorp.

Description: § 205(d) Rate Filing: Deseret Const Agmt Mona Relay to be effective 7/11/2022.

Filed Date: 5/11/22.

Accession Number: 20220511-5072.

Comment Date: 5 p.m. ET 6/1/22.

Docket Numbers: ER22-1855-000.

Applicants: Appalachian Power Company.

Description: § 205(d) Rate Filing: Rate Schedule 306 Power Coordination Bridge Agreement to be effective 12/31/9998.

Filed Date: 5/11/22.

Accession Number: 20220511-5090.

Comment Date: 5 p.m. ET 6/1/22.

Docket Numbers: ER22-1856-000.

Applicants: Northern States Power Company, a Minnesota corporation.

Description: § 205(d) Rate Filing: 2022-05-11 NSP-GRE-SISA-Eidswold-709-0.0.0 to be effective 5/12/2022.

Filed Date: 5/11/22.

Accession Number: 20220511-5113.

Comment Date: 5 p.m. ET 6/1/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2022.
Debbie-Anne A. Reese,
Deputy Secretary.

[FR Doc. 2022-10548 Filed 5-16-22; 8:45 am]

BILLING CODE 6717-01-P